GENERAL SERVICES ADMINISTRATION

[Notice-MA-2018-02; Docket No. 2018-0002; Sequence No. 6]

Request for Comment: New Federal Real Property Profile Information for Communications Facility Installation

AGENCY: Office of Government-wide Policy (OGP), General Services Administration (GSA).

ACTION: Request for comment.

SUMMARY: The General Services Administration is seeking input on the inclusion of communications facility installation information into the Federal Real Property Profile (FRPP).

DATES: This notice is effective July 6, 2018.

ADDRESSES: Submit comments in response to Notice-MA-2018-02 by any of the following methods:

• Regulations.gov: http://www.regulations.gov. Submit comments via the Federal Rulemaking portal by entering “Notice-MA-2018-02”, under the heading “Keyword or ID” and select “Search”. Select the link “Submit a Comment Now” that corresponds with “Notice-MA-2018-02, and follow the instructions provided on the screen. Please include your name, company name (if applicable), and “Notice-MA-2018-02” on your attached document.

• Mail: General Services Administration, Regulatory Secretariat Division (MVCB), ATTN: Ms. Lois Mandell, 1800 F Street NW, Washington, DC 20405.

GSA requests that comments be as specific as possible, include any supporting data, detailed justification for your specific suggestions regarding information to add to the FRPP related to the installation of communications facilities on Federal real property.

FOR FURTHER INFORMATION CONTACT: For further information on this document, please contact Chris Coneeney, Realty Specialist, Office of Government-wide Policy, 202-208-2956 or chris.coneeney@gsa.gov.

For information pertaining to the status or publication schedules, contact the Regulatory Secretariat Division (MVCB), 1800 F Street NW, Washington, DC 20405, 202-501-4755. Please cite Notice MA-2018-02.

SUPPLEMENTARY INFORMATION: On March 23, 2018, the President signed HR 1625, “Consolidated Appropriations Act, 2018,” which provided appropriations through fiscal year 2018. Section 608 of the law directs GSA to issue a notice for public comment regarding the inclusion of a communications facility installation under section 21 of the Federal Assets Sale and Transfer Act of 2016 (40 U.S.C. 1303 note) (FASTA).

The statute defines communications facility installation as any infrastructure, including any transmitting device, tower, or support structure, and any equipment, switches, wiring, cabling, power sources, shelters, or cabinets associated with the licensed or permitted unlicensed wireless or wireline transmission of writings, signs, signals, data, images, pictures, and sounds of any kind; and any antenna or apparatus that is designed for the purpose of emitting radio frequency; is designed to be operated, or is operating, from a fixed location pursuant to authorization by the Federal Communications Commission or is using duly authorized devices that do not require individual licenses; and is added to a tower, building, or other structure.

This Notice is requesting recommendations on (a) the criteria that make Federal real property capable of supporting communications facility installations; (b) the types of information related to the Federal real property that should be included in the Federal Real Property Profile (FRPP) database; (c) additional data related to installing a communication facility on Federal real property that should be considered, such as the types of real property best suited for a communication facility installation; and (d) locations that may be a higher priority based on market needs or gaps in various communication services, such as broadband or cellular services.

The FRPP is a centralized database containing descriptive information on Federal real property owned, leased or otherwise managed by executive branch agencies. Executive agencies submit real property data to the FRPP pursuant to section 21 of FASTA. A current list and associated definitions of FRPP data elements and reporting requirements are contained in the Federal Real Property Council Guidance on Real Property Inventory Reporting and can be found at: https://www.gsa.gov/cdnstatic/FY%202017%20FRPP%20DATA%20DICTIONARY%20V2_0.pdf.

Although the agency may not respond to each individual comment, GSA may follow-up with respondents to clarify comments. GSA values public feedback and will consider all input that it receives.

Dated: May 2, 2018.
Alexander J. Kurien,
Deputy Associate Administrator, Office of Asset and Transportation Management, Office of Government-wide Policy.

[FR Doc. 2018-09671 Filed 5-4-18; 8:45 am]

BILLING CODE 6820-14-P